DEPARTMENT OF HEALTH AND HUMAN SERVICES

National Institutes of Health

Proposed Collection; Comment Request; 5 A Day Customized Survey

Summary: In compliance with the requirement of Section 3506(c)(2)(A) of the Paperwork Reduction Act of 1995 for opportunity for public comment on proposed data collection projects, the National Cancer Institute (NCI), National Institutes of Health (NIH) will publish periodic summaries of proposed projects to be submitted to the Office of Management and Budget (OMB) for review and approval.

Proposed Collection

Title: 5 A Day Customized Survey.

Type of Information Collection Request: NEW.

Need and Use of Information Collection: The purpose of the 5 A Day Customized Survey is to further the development of standardized measures of consumer knowledge, attitudes, and behaviors regarding the consumption of fruits and vegetables. Specifically, the Survey will allow for validation of the new “cup” portion sizes (consistent with the 2005 Dietary Guidelines) and identify the most efficacious short screener methods of fruit and vegetable intake. In addition, the 5 A Day Customized Survey will measure established predictors of the fruit and vegetable consumption at the national level and explore new predictors and constructs not previously examined for fruit and vegetable consumption. The sample will be drawn from a consumer opinion panel methodology using balancing techniques to mirror the U.S. general population on a set of key demographic variables. A separate sample of African Americans will be drawn from the panel. Prior to fielding the Customized Survey, a pilot study will be conducted with a 200 individuals to assess validity of the two fruit and vegetable screeners (which are embedded in the Customized Survey). In the pilot study, respondents will initially complete three 24-hour dietary recalls over the phone and receive the 5 A Day Customized Survey by mail as a follow-up.

Fruit and vegetable consumption as assessed by the average of the three 24-hour recalls will be compared with fruit and vegetable consumption as assessed separately by the two fruit and vegetable screener methods from the Customized Survey. In addition, the psychometric properties of the remaining items from the Customized Survey will be evaluated. Based on the pilot study findings, minor modifications may be made to the Customized Survey, and a final instrument will be submitted to OMB for review prior to the main implementation of the Customized Survey.

Frequency of response: One-time for the main implementation. For the pilot, subjects will complete three 24-hour dietary recalls over the phone and also complete a mailed copy of the 5 A Day Customized Survey.

Affected public: Individuals.

Type of Respondents: U.S. adults, Pilot Survey, 5 A Day Customized Survey. The annual reporting burden is presented in exhibit 1 below. There are no Operating or Maintenance Costs to report.

Exhibit 1
| Estimates of respondent hour burden: Number of respondents | Estimates of respondent hour burden: Frequency of response | Estimates of respondent hour burden: Average burden hours per response | Estimates of respondent hour burden: Annual hour burden
Pilot Study | 200 | 4 | 0.50 | 400
5 A Day Customized Survey main implementation | 4,000 | 1 | 0.50 | 2,000
Total | 4,200 |  |  | 2,400

Request for comments: Written comments and/or suggestions from the public and affected agencies are invited on one or more of the following points: (1) Whether the proposed collection of information is necessary for the proposed performance of the functions of the agency, including whether the information shall have practical utility; (2) The accuracy of the estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

For Further Information Contact: To request more information on the proposed project or to obtain a copy of the data collection plans and instruments, contact Amy Lazarus Yaroch, Ph.D, Project Officer, National Cancer Institute, NIH, EPN 4074, 6130 Executive Boulevard MSC 7335, Bethesda, Maryland 20892-7335, or call non-toll-free number 301-402-8425, or FAX your request to 301-480-2087, or E-mail your request, including your address, to yarocha@mail.nih.gov.

Comments due date: Comments regarding this information collection are best assured of having their full effect if received within 60-days of the date of this publication.

Dated: May 10, 2005.
Rachelle Ragland-Greene,
National Institutes of Health, NCI Project Clearance Liaison.

[FR Doc. 05-9853 Filed 5-17-05; 8:45 am]

BILLING CODE 4101-01-P